DEPARTMENT OF TRANSPORTATION

Federal Aviation Administration

14 CFR Part 39

[Docket No. 2002-NM-172-AD]

RIN 2120-AA64

Airworthiness Directives; BAE Systems (Operations) Limited Model BAe 146 and Avro 146-RJ Series Airplanes

AGENCY: Federal Aviation Administration, DOT.

ACTION: Notice of proposed rulemaking (NPRM).

SUMMARY: This document proposes the adoption of a new airworthiness directive (AD) that is applicable to all BAE Systems (Operations) Limited Model BAe 146 and Avro 146-RJ series airplanes. This proposal would require installation of a linear fluid-filled damper between each elevator surface and the airplane structure on both the left and right sides of the airplane, along with related structural and system modifications. This action is necessary to prevent pitch oscillation (vertical bouncing) of the fuselage due to excessive ice buildup on the elevator servo tab, and consequent reduced controllability of the airplane. This action is intended to address the identified unsafe condition.

DATES: Comments must be received by July 2, 2004.

ADDRESSES: Submit comments in triplicate to the Federal Aviation Administration (FAA), Transport Airplane Directorate, ANM-114, Attention: Rules Docket No. 2002-NM-172-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-172-AD” in the subject line and need not be submitted in triplicate. Comments sent via the Internet as attached electronic files must be formatted in Microsoft Word 97 or 2000 or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer; International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-172-AD.” The postcard will be date stamped and returned to the commenter.

Availability of NPRMs

Any person may obtain a copy of this NPRM by submitting a request to the FAA, Transport Airplane Directorate, ANM-114, Attention: Rules Docket No. 2002-NM-172-AD, 1601 Lind Avenue, SW., Renton, Washington 98055-4056.

Discussion

The Civil Aviation Authority (CAA), which is the airworthiness authority for the United Kingdom, notified the FAA that an unsafe condition may exist on all BAE Systems (Operations) Limited Model BAe 146 and Avro 146-RJ series airplanes. The CAA advises that BAE Systems (Operations) Limited investigations have determined that, due to excessive ice buildup on the elevator servo tab under certain unusual atmospheric conditions, pitch oscillation (vertical bouncing) of the fuselage can occur. This condition, if not corrected, could result in reduced controllability of the airplane.

Explanation of Relevant Service Information

BAE Systems (Operations) Limited has issued Modification Service Bulletin SB.27-169-01692A, dated December 10, 2001, which describes procedures for installation of linear fluid-filled dampers between each elevator surface and the airplane structure on both the left and right sides of the airplane. SB.27-169-01692A also refers to additional BAE Systems (Operations) Limited Modification Service Bulletins as appropriate sources of information for further actions which must be accomplished prior to, or in conjunction with, SB.27-169-01692A. The additional service bulletins are:

• SB.27-168-01614EH, dated January 22, 2001, which describes procedures for modifying the tailfin top fairing by introducing access holes and reinforcement to the fairing, and introducing lanyards to the fairing access panels;

• SB.27-167-01614C.D.G, dated January 2, 2001, which describes procedures for installation of torsion box and drop-link assemblies and elevator brackets, and structural relief and reinforcement; and

• SB.27-170-01692E, Revision 2, dated March 20, 2001 (for BAE 146 series airplanes only); and SB.27-171-01692F, Revision 1, dated March 20, 2001 (for Avro 146-RJ series airplanes only), which describe procedures for installing electrical system elements for operation of elevator control surface damper bypass valves.

Accomplishment of the actions specified in the service bulletins is intended to adequately address the identified unsafe condition. The CAA classified BAE Systems (Operations) Limited Modification Service Bulletin SB.27-169-01692A as mandatory and issued British airworthiness directive 005-12-2001 to ensure the continued airworthiness of these airplanes in the United Kingdom.

FAA's Conclusions

These airplane models are manufactured in the United Kingdom and are type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as discussed below.

Differences Between Proposed AD and Referenced Service Bulletins

Operators should note that, although the referenced service bulletins describe procedures for completing a form recording accomplishment of the service bulletin and returning that form to the manufacturer, this proposed AD would not require that action. The FAA does not need this information from operators.

Cost Impact

The FAA estimates that 55 airplanes of U.S. registry would be affected by this proposed AD. Accomplishment of the proposed actions specified in the referenced service bulletins would require an approximate number of work hours as shown in Table 1 of this proposed AD, at an average labor rate of $65 per work hour.

Table 1.—Work Hours and Costs
Service bulletin # | Parts costs | Work hours | Total parts and labor costs
SB.27-169-01692A | $10,415 | 8 | $10,935
SB.27-168-01614EH | 713 | 40 | 3,313
SB.27-167-01614C.D.G | 2,937 | 12 | 3,717
SB.27-170-01692E, Revision 2 | 826 | 20 | 2,126
SB.27-171-01692F, Revision 1 | 826 | 12 | 1,606

Based on these figures, the cost impact of the proposed AD on U.S. operators is estimated to be between $1,076,405 and $1,105,005, or between $19,571 and $20,091 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bae Systems (Operations) Limited (Formerly British Aerospace Regional Aircraft): Docket 2002-NM-172-AD.

Applicability: All Model BAe 146 and Avro 146-RJ series airplanes, certificated in any category.

Compliance: Required as indicated, unless accomplished previously.

To prevent pitch oscillation (vertical bouncing) of the fuselage due to excessive ice buildup on the elevator servo tab, and consequent reduced controllability of the airplane, accomplish the following:

Modification

(a) Within 18 months from the effective date of this AD, install linear fluid-filled dampers between each elevator surface and airplane structure on both the left and right sides of the airplane and perform the related structural and system modifications; by doing all of the actions in and in accordance with the Accomplishment Instructions of BAE Systems (Operations) Limited Modification Service Bulletin SB.27-169-01692A, dated December 10, 2003; and additional BAE Systems (Operations) Limited Modification Service Bulletins SB.27-168-01614EH, dated January 22, 2001; SB.27-167-01614C.D.G, dated January 2, 2001; and SB.27-170-01692E, Revision 2, dated March 20, 2001 (for Model BAE 146 series airplanes) or SB.27-171-01692F, Revision 1, dated March 20, 2001 (for Model Avro 146-RJ series airplanes), as applicable.

No Reporting Requirement

(b) Although all referenced service bulletins describe procedures for reporting accomplishment to the manufacturer, this AD does not require that action.

Alternative Methods of Compliance

(c) In accordance with 14 CFR 39.19, the Manager, International Branch, ANM-116, FAA, Transport Airplane Directorate, is authorized to approve alternative methods of compliance for this AD.

Note 1: The subject of this AD is addressed in British airworthiness directive 005-12-2001.

Issued in Renton, Washington, on May 25, 2004.
Kalene C. Yanamura,
Acting Manager, Transport Airplane Directorate, Aircraft Certification Service.

[FR Doc. 04-12446 Filed 6-1-04; 8:45 am]

BILLING CODE 4910-13-P